DEPARTMENT OF EDUCATION

Notice of Proposed Collection Requests; Comment Request

AGENCY: Department of Education.

ACTION: Correction Notice.

SUMMARY: On July 24, 2013, the U.S. Department of Education published a 60-day comment period notice in the Federal Register (Page 44553, Column 3) seeking public comment for an information collection entitled, “Early Childhood Longitudinal Study Kindergarten Class of 2010-11 (ECLS- K: 2011) Spring Third-Grade National Collection, Fourth-Grade Recruitment, and Fifth-Grade Tracking”. The OMB number identified in the notice was incorrect. The correct OMB number is 1850-0750.

The Acting Director, Information Collection Clearance Division, Privacy, Information and Records Management Services, Office of Management, hereby issues a correction notice as required by the Paperwork Reduction Act of 1995.

Dated: July 24, 2013.
Stephanie Valentine,
Acting Director, Information Collection Clearance Division, Privacy, Information and Records Management Services, Office of Management.

[FR Doc. 2013-18097 Filed 7-26-13; 8:45 am]

BILLING CODE P